DEPARTMENT OF COMMERCE

National Oceanic and Atmospheric Administration

Draft Revised Management Plan for the Delaware National Estuarine Research Reserve

AGENCY: Office for Coastal Management, National Ocean Service, National Oceanic and Atmospheric Administration, Department of Commerce.

ACTION: Request for comments on draft revised management plan.

SUMMARY: The National Oceanic and Atmospheric Administration (NOAA) is soliciting comments from the public regarding a proposed revision of the management plan for the Delaware National Estuarine Research Reserve (DNERR or Reserve). A management plan provides a framework for the direction and timing of a reserve's programs, allows reserve managers to assess a reserve's success in meeting its goals and to identify any necessary changes in direction, and is used to guide programmatic evaluations of the reserve. Plan revisions are required of each reserve in the National Estuarine Research Reserve System at least every five years. This revised plan is intended to replace the plan approved in 2013.

DATES: Comments must be received at the appropriate address (see ADDRESSES) on or before January 18, 2022.

ADDRESSES: The draft revised management plan can be downloaded or viewed at: https://documents.dnrec.delaware.gov/coastal/DNERR/2022-DRAFT-DNERR-Management-Plan.pdf. The document is also available by sending a written request to the point of contact identified below (see FOR FURTHER INFORMATION). You may submit comments by any of the following methods:

Electronic Submission: Submit all electronic public comments by email to nina.garfield@noaa.gov.

Mail: Submit written comments to Rachael Phillos, Manager, Delaware National Estuarine Research Reserve, 818 Kitts Hummock Road Dover, DE 1990. Comments submitted by any other method or after the comment period may not be considered. All comments are part of the public record and may be publicly accessible. Any personal identifying information (e.g., name, address) submitted voluntarily by the sender may also be accessible. NOAA will accept anonymous comments.

FOR FURTHER INFORMATION CONTACT: Nina Garfield of NOAA's Office for Coastal Management, by email at nina.garfield@noaa.gov, or phone at 240-485-8727, or via postal mail: NOAA/Office for Coastal Management, 1305 East West Highway, 10th Floor, Silver Spring, MD 20910.

SUPPLEMENTARY INFORMATION: Pursuant to 15 CFR 921.33(c), a state must revise the management plan for the research reserve at least every five years. If approved by NOAA, the reserve's revised plan will replace the plan previously approved in 2013.

The draft revised management plan outlines the reserve's strategic goals and objectives; administrative structure; programs for conducting research and monitoring, education, and training; resource protection, restoration, and manipulation plans; public access and visitor use plans; consideration for future land acquisition; and facility development to support reserve operations.

In addition to continuing the tradition of robust local community education, training and research and stewardship programs, the Delaware National Estuarine Research Reserve intends, in this next management planning period, to focus on creating demonstration areas that can be used to model best management practices for local landowners; fostering the next generation of coastal professionals and conservation stewards; engaging land managers in conversations based on watershed scale conservation; and connecting with the Delaware community in a meaningful and inclusive manner to identify their needs as the stakeholders of this research reserve. The revised management plan, once approved, would serve as the guiding document for the 6364-acre research reserve for the next five years.

Since 2013, this research reserve has had an important impact on the local area and its communities. The reserve's training program held 53 trainings, workshops or conferences with 27,851 contact hours with local constituents. The education program had 32,466 contact hours with 11,722 K-12 students and 23,599 public participants. Reserve volunteers donated 20,739 hours of time—producing the full-time employee equivalent of 10.5 years worth of work. Some of those volunteer hours were spent recording 1,784,923 spawning horseshoe crabs on the three beaches that the reserve monitors. Research and monitoring efforts produced 15 peer-reviewed publications that used this reserve's infrastructure and data. The mini-grant opportunity, available through their Research and Monitoring Program, distributed 183,766 dollars of funding to local, Delaware-based researchers, many of which were early career faculty. Seventy-six acres of land within this reserve's boundary have been enhanced through reforestation and other restoration efforts.

This draft management plan expands the boundary of the Delaware National Estuarine Research Reserve and is soliciting comments from the public on the proposed boundary expansion. With the approval of this current management plan, this boundary will be amended to incorporate an additional six parcels—all found within the priority acquisition area identified in the 2013 revision of the plan—increasing the total acreage of the reserve to 6,364 acres. These parcels include lands that enhance and contribute to the ecological protection within the Blackbird Creek watershed. The “McKinley” property at 531 Union Church Road is 67.4 acres in size and includes a mix of native hardwoods and coastal plain ponds (Delmarva Bays). At 0 Taylors Bridge Road, the 32-acre “Unruh” property includes a wooded tributary buffer and agricultural lands. Three parcels known as the “Norris” property, totaling 42.6 acres at Union Church Road were acquired to improve wildlife corridor habitat and include forest and agriculture lands. Additionally, an inholding property known as “Manwaring” at 789 Blackbird Landing Road that is 16.3 acres in size was acquired. More details on these parcels and the boundary change may be found in the draft revised management plan.

NOAA's Office for Coastal Management analyzes the environmental impacts of the proposed approval of this draft revised management plan in accordance with section 102(2)(C) of the National Environmental Policy Act of 1969, as amended, 42 U.S.C. 4332(2)(C), and the Council on Environmental Quality Regulations for Implementing the Procedural Provisions of NEPA (40 CFR 1500-1508).

The public is invited to comment on the draft revised management plan. NOAA will take these comments into consideration in deciding whether to approve the draft revised management plan in whole or in part.

Authority: 16 U.S.C. 1451 et seq.; 15 CFR 921.33.

Keelin S. Kuipers,
Deputy Director, Office for Coastal Management, National Ocean Service, National Oceanic and Atmospheric Administration.

[FR Doc. 2021-27185 Filed 12-15-21; 8:45 am]

BILLING CODE 3510-NK-P